INTERNATIONAL TRADE COMMISSION

[Investigation No. 731-TA-1269 (Final)]

Silicomanganese From Australia

Determination

On the basis of the record ¹ developed in the subject investigation, the United States International Trade Commission (“Commission”) determines, pursuant to the Tariff Act of 1930 (“the Act”), that an industry in the United States is not materially injured or threatened with material injury, and the establishment of an industry in the United States is not materially retarded, by reason of imports of silicomanganese from Australia, provided for in subheading 7202.30.00 of the Harmonized Tariff Schedule of the United States, that have been found by the Department of Commerce (“Commerce”) to be sold in the United States at less than fair value (“LTFV”).

¹ The record is defined in section 207.2(f) of the Commission's Rules of Practice and Procedure (19 CFR 207.2(f)).

Background

The Commission, pursuant to section 735(b) of the Tariff Act of 1930 (19 U.S.C. 1673d(b)), instituted this investigation effective February 19, 2015, following receipt of a petition filed with the Commission and Commerce by Felman Production LLC, Letart, West Virginia. The Commission scheduled the final phase of the investigation following notification of a preliminary determination by Commerce that imports of silicomanganese from Australia were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of October 21, 2015 (80 FR 63833). The hearing was held in Washington, DC, on February 11, 2016, and all persons who requested the opportunity were permitted to appear in person or by counsel.

The Commission made this determination pursuant to section 735(b) of the Tariff Act of 1930 (19 U.S.C. 1673d(b)). It completed and filed its determination in this investigation on April 6, 2016. The views of the Commission are contained in USITC Publication 4600 (April 2016), entitled Silicomanganese from Australia: Investigation No. 731-TA-1269 (Final).

By order of the Commission.
Issued: April 6, 2016.
Lisa R. Barton,
Secretary to the Commission.

[FR Doc. 2016-08268 Filed 4-11-16; 8:45 am]

BILLING CODE 7020-02-P